DEPARTMENT OF COMMERCE

International Trade Administration

[A-533-810]

Stainless Steel Bar From India: Final Results of New Shipper Review; 2023

AGENCY: Enforcement and Compliance, International Trade Administration, Department of Commerce.

SUMMARY: The U.S. Department of Commerce (Commerce) determines that the sole producer and/or exporter subject to this new shipper review (NSR) of the antidumping duty (AD) order on stainless steel bar (SS Bar) from India, Welspun Specialty Solutions Limited (Welspun), made bona fide sale transactions that were not made below normal value (NV). The period of review (POR) is February 1, 2023, through July 31, 2023.

DATES: Applicable October 24, 2024.

FOR FURTHER INFORMATION CONTACT: Joshua Weiner, AD/CVD Operations, Office I, Enforcement and Compliance, International Trade Administration, U.S. Department of Commerce, 1401 Constitution Avenue NW, Washington, DC 20230; telephone: (202) 482-3902.

SUPPLEMENTARY INFORMATION:

Background

On February 21, 1995, Commerce published in the Federal Register the AD order on SS Bar from India.¹ On August 13, 2024, Commerce published the Preliminary Results of this NSR, wherein we determined that Welspun's sales were bona fide transactions and were not made below NV.² We invited interested parties to comment on the Preliminary Results.³ No interested parties submitted comments. Accordingly, Commerce made no changes to the Preliminary Results and no decision memorandum accompanies this notice. On July 22, 2024, Commerce tolled certain deadlines in this administrative proceeding by seven days.⁴ The deadline for the final results is now October 30, 2024. Commerce conducted this review in accordance with section 751(a) of the Tariff Act of 1930, as amended (the Act).

¹ See Antidumping Duty Orders: Stainless Steel Bar from Brazil, India and Japan, 60 FR 9661 (February 21, 1995) (Order).

² See Stainless Steel Bar from India: Preliminary Results of New Shipper Review; 2023, 89 FR 65865 (August 13, 2024) (Preliminary Results), and accompanying Preliminary Decision Memorandum.

³ Id.

⁴ See Memorandum, “Tolling of Deadlines for Antidumping and Countervailing Duty Proceedings,” dated July 22, 2024.

Scope of the Order ⁵

⁵ See Order.

The products covered by the Order are SS Bar. A full description of the scope of the Order is provided in the Preliminary Results.⁶

⁶ See Preliminary Results PDM.

Final Results of Review

We received no comments on the Preliminary Results and, therefore, have made no changes for the final results of this NSR. Accordingly, Commerce determines that the following weighted-average dumping margin exists for the POR February 1, 2023, through July 31, 2023:

Producer/exporter | Weighted-average dumping margin (percent)
Welspun Specialty Solutions Limited | 0.00

Disclosure

Because Commerce received no comments on the Preliminary Results, we have not modified our analysis, and no decision memorandum accompanies this Federal Register notice. We are adopting the Preliminary Results as the final results of this review.⁷ Consequently, there are no new calculations to disclose in accordance with 19 CFR 351.224(b) for these final results.

⁷ See Preliminary Results.

Assessment Rates

Pursuant to section 751(a)(2)(C) of the Act and 19 CFR 351.212(b), Commerce has determined, and U.S. Customs and Border Protection (CBP) shall assess, antidumping duties on all appropriate entries of subject merchandise in accordance with the final results of this NSR. We intend to instruct CBP to apply the importer-specific ad valorem assessment rates we calculated for the Preliminary Results on the basis of the ratio of the total amount of dumping calculated for each importer's examined sales and the total entered value of those same sales in accordance with 19 CFR 351.212(b)(1).⁸ If the importer-specific assessment rate is zero or de minimis, then Commerce will instruct CBP to liquidate such entries without regard to antidumping duties.

⁸ See, e.g., Antidumping Proceedings: Calculation of the Weighted-Average Dumping Margin and Assessment Rate in Certain Antidumping Duty Proceedings; Final Modification, 77 FR 8101 (February 14, 2012).

For entries of subject merchandise during the POR produced by Welspun, for which it did not know that its merchandise was destined for the United States, we will instruct CBP to liquidate unreviewed entries at the all-others rate (i.e., 12.45 percent) ⁹ if there is no rate for the intermediate company(ies) involved in the transaction.

⁹ See Order.

Commerce intends to issue assessment instructions to CBP no earlier than 35 days after the date of publication of these final results in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of this notice for all shipments of SS Bar from India entered, or withdrawn from warehouse, for consumption on or after the date of publication as provided by section 751(a)(2)(C) of the Act: (1) for subject merchandise produced and exported by Welspun, no cash deposit will be required; ¹⁰ (2) for subject merchandise exported, but not produced by Welspun, the cash deposit rate will be the producer's rate or the all-others rate (i.e., 12.45 percent) ¹¹ if the producer does not have its own rate; (3) for subject merchandise produced, but not exported by Welspun, the cash deposit rate will be the rate applicable to the exporter, or the all-others rate if the exporter does not have its own rate. These cash deposit requirements, when imposed, shall remain in effect until further notice.

¹⁰ Commerce established a combination cash deposit rate for this company, consistent with its practice in new shipper reviews. See, e.g., Certain Cut-To-Length Carbon-Quality Steel Plate Products from the Republic of Korea: Preliminary Results of Antidumping Duty Administrative and New Shipper Reviews and Rescission of Administrative Review, In Part; 2014-2015, 81 FR 12870, 12871 (March 11, 2016).

¹¹ See Order, 60 FR at 9661.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Administrative Protective Order (APO)

This notice also serves as a reminder to parties subject to an APO of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

Notification to Interested Parties

Commerce is issuing and publishing the final results of this review in accordance with sections 751(a)(1) and 777(i)(1) of the Act, and 19 CFR 351.221(b)(5).

Dated: October 16, 2024.
Ryan Majerus,
Deputy Assistant Secretary for Policy and Negotiations, performing the non-exclusive functions and duties of the Assistant Secretary for Enforcement and Compliance.

[FR Doc. 2024-24751 Filed 10-23-24; 8:45 am]

BILLING CODE 3510-DS-P